DEPARTMENT OF THE INTERIOR

National Park Service

[NPS-WASO-14710; PXXVPAD0517.00.1]

Change of Jurisdiction—National Park Service Units within the State of South Carolina

AGENCY: National Park Service, Interior.

ACTION: Notice of Concurrent Jurisdiction.

SUMMARY: On behalf of the United States, the National Park Service accepted exclusive jurisdiction from the State of South Carolina, and retroceded and relinquished to the State of South Carolina, the measure of legislative jurisdiction necessary to establish concurrent jurisdiction between the United States and the State of South Carolina on certain lands administered by the National Park Service within the State of South Carolina.

DATES: Effective Date: Concurrent legislative jurisdiction on these lands and waters became effective on or about November 27, 2013.

FOR FURTHER INFORMATION CONTACT: Jonathan Pierce, National Park Service, Southeast Region, 100 Alabama Street SW., 1924 Building, Atlanta, GA 30303. Phone: 404-507-5726.

SUPPLEMENTARY INFORMATION: In a letter to the Honorable Nikki Haley, Governor of South Carolina, dated July 30, 2013, in accordance with Sections 3-1-10 and 3-1-120 of the South Carolina Code and 40 U.S.C. 3112, Jonathan B. Jarvis, Director of the National Park Service, (NPS), formally accepted exclusive jurisdiction over certain lands administered by the NPS, acquired after September 29, 1983, within Congaree National Park, Cowpens National Battlefield, Fort Sumter National Monument, Ninety Six National Historic Site, and for all lands acquired at Charles Pinckney National Historic Site. The acceptance of exclusive jurisdiction was conditioned upon acceptance by the State of South Carolina of the simultaneous retrocession and relinquishment to the State of South Carolina of such measure of legislative jurisdiction, civil and criminal, as necessary to establish concurrent jurisdiction between the United States and the State of South Carolina. The State of South Carolina accepted the cession of jurisdiction, thereby establishing concurrent jurisdiction between the United States and the State of South Carolina, through execution of a notice of acceptance. The notice of acceptance was authorized by resolution of the South Carolina Budget and Control Board, and subsequently signed by South Carolina Governor Nikki Haley on November 27, 2013. The notice was transmitted to and received by NPS Director Jarvis on December 16, 2013. Concurrent jurisdiction between the United States and the State of South Carolina on those lands as previously described was effective upon the sending of the notice of acceptance by the State of South Carolina.

Dated: March 10, 2014.
Jonathan B. Jarvis,
Director, National Park Service.

[FR Doc. 2014-07613 Filed 4-4-14; 8:45 am]

BILLING CODE 4312-EJ-P